DEPARTMENT OF ENERGY

Federal Energy Regulatory Commission

Combined Notice of Filings #1

August 16, 2010.

Take notice that the Commission received the following electric rate filings:

Docket Numbers: ER98-1150-011; ER07-1232-003; ER07-964-002.

Applicants: Tucson Electric Company; UniSource Energy Development Company; UNS Electric, Inc.

Description: Supplement to Triennial Market Power Update of Tucson Electric Power Company, et al.

Filed Date: 08/13/2010.

Accession Number: 20100813-5132.

Comment Date: 5 p.m. Eastern Time on Friday, September 3, 2010.

Docket Numbers: ER00-2885-025; ER01-2765-024; ER02-2102-024; ER03-1283-019; ER05-1232-020; ER07-1112-009; ER07-1113-009; ER07-1116-008; ER07-1117-011; ER07-1118-010; ER07-1356-011; ER07-1358-010; ER09-1141-003; ER09-335-006; ER09-609-002.

Applicants: J.P. Morgan Ventures Energy Corporation, BE Allegheny LLC, BE CA LLC, BE Ironwood LLC, BE KJ LLC, BE Alabama LLC, BE Louisiana LLC, Cedar Brakes I, L.L.C., Utility Contract Funding, L.L.C., Vineland Energy LLC, Central Power & Lime LLC, Cedar Brakes II, L.L.C., J.P. Morgan Commodities Canada Corporation, BE Rayle LLC

Description: Third Supplement to Notice of Non-Material Change in Status (Red Hills) of JP Morgan Sellers.

Filed Date: 08/13/2010.

Accession Number: 20100813-5096.

Comment Date: 5 p.m. Eastern Time on Friday, September 3, 2010.

Docket Numbers: ER00-2885-026; ER01-2765-025; ER02-2102-025; ER03-1283-020; ER05-1232-021; ER07-1112-010; ER07-1113-010; ER07-1116-009; ER07-1117-012; ER07-1118-011; ER07-1356-012; ER07-1358-011; ER09-1141-005; ER09-335-007; ER09-609-003.

Applicants: BE Alabama LLC, BE Allegheny LLC, BE CA LLC, BE Ironwood LLC, BE KJ LLC, BE Louisiana LLC, BE Rayle LLC, Cedar Brakes I, L.L.C., Cedar Brakes II, L.L.C., Central Power & Lime LLC, J.P. Morgan Commodities Canada Corporation, J.P. Morgan Ventures Energy Corporation, Utility Contract Funding, L.L.C., Vineland Energy LLC.

Description: Third Supplement to Notice of Non-Material Change in Status (Rail Splitter) of J.P. Morgan Sellers.

Filed Date: 08/13/2010.

Accession Number: 20100813-5118.

Comment Date: 5 p.m. Eastern Time on Friday, September 3, 2010.

Docket Numbers: ER00-2885-027; ER01-2765-026; ER02-2102-026; ER03-1283-021; ER05-1232-022; ER07-1112-011; ER07-1113-011; ER07-1116-010; ER07-1118-012; ER07-1117-013; ER07-1358-012; ER07-1356-013; ER09-609-004; ER09-1141-006; ER09-335-008.

Applicants: J.P. Morgan Ventures Energy Corporation, BE Allegheny LLC, BE CA LLC, BE Ironwood LLC, BE KJ LLC, BE Rayle LLC, BE Alabama LLC, BE Louisiana LLC, Cedar Brakes I, L.L.C., Utility Contract Funding, L.L.C., Vineland Energy LLC, Central Power & Lime LLC, Cedar Brakes II, L.L.C., J.P. Morgan Commodities Canada Corporation

Description: Supplement to Notice of Non-Material Change in Status of JPMorgan Sellers.

Filed Date: 08/13/2010.

Accession Number: 20100813-5094

Comment Date: 5 p.m. Eastern Time on Friday, September 3, 2010.

Docket Numbers: ER00-2885-031; ER01-2765-030; ER02-2102-030; ER03-1283-024; ER05-1232-028; ER07-1112-014; ER07-1113-015; ER07-1116-013; ER07-1117-016; ER07-1118-015; ER07-1356-016; ER07-1358-017; ER09-1141-010; ER09-335-010; ER09-609-007.

Applicants: Cedar Brakes I LLC; Cedar Brakes II, LLC; Utility Contract Funding, L.L.C.; Vineland Energy LLC; J.P. Morgan Ventures Energy Corporation; BE Allegheny LLC; BE CA LLC; BE Ironwood LLC; BE KJ LLC; BE Rayle LLC; BE Alabama LLC; BE Louisiana LLC; J.P. Morgan Commodities Canada Corporation; Central Power & Lime LLC.

Description: Fourth Supplement to Notice of Non-Material Change in Status (Smoky II) of J.P. Morgan Sellers under ER07-1356, et al.

Filed Date: 08/16/2010.

Accession Number: 20100816-5092.

Comment Date: 5 p.m. Eastern Time on Tuesday, September 7, 2010.

Docket Numbers: ER02-1633-009.

Applicants: Auburndale Peaker Energy Center, L.L.C.

Description: Renewed Request for Acceptance of Updated Market Power Analysis and Order No. 697-A Compliance Filing of Auburndale Peaker Energy Center, L.L.C.

Filed Date: 08/13/2010.

Accession Number: 20100813-5133

Comment Date: 5 p.m. Eastern Time on Friday, September 3, 2010.

Docket Numbers: ER10-468-004.

Applicants: Google Energy LLC.

Description: Notice of Change of Status of Google Energy LLC.

Filed Date: 08/13/2010.

Accession Number: 20100813-5088.

Comment Date: 5 p.m. Eastern Time on Friday, September 3, 2010.

Docket Numbers: ER10-1772-001.

Applicants: Golden Spread Electric Cooperative, Inc.

Description: Golden Spread Electric Cooperative, Inc. submits tariff filing per 35: Baseline Filing to be effective 7/14/2010.

Filed Date: 08/13/2010.

Accession Number: 20100813-5122.

Comment Date: 5 p.m. Eastern Time on Friday, September 3, 2010.

Docket Numbers: ER10-1775-001.

Applicants: Florida Power Corporation.

Description: Florida Power Corporation submits tariff filing per 35.17(b): Florida Power Corporation submits amendment to baseline OATT to be effective 7/14/2010.

Filed Date: 08/13/2010.

Accession Number: 20100813-5065.

Comment Date: 5 p.m. Eastern Time on Friday, September 3, 2010.

Docket Numbers: ER10-1821-001.

Applicants: Goshen Phase II LLC.

Description: Goshen Phase II LLC submits tariff filing per 35.17(b): Amendment to MBR Application of Goshen Phase II LLC, to be effective 9/1/2010.

Filed Date: 08/16/2010.

Accession Number: 20100816-5001.

Comment Date: 5 p.m. Eastern Time on Tuesday, September 7, 2010.

Docket Numbers: ER10-2228-000.

Applicants: Entergy New Orleans, Inc.

Description: Entergy New Orleans, Inc. submits tariff filing per 35: ENOI OATT Baseline Filing to be effective 8/2/2010.

Filed Date: 08/13/2010.

Accession Number: 20100813-5099.

Comment Date: 5 p.m. Eastern Time on Friday, September 3, 2010.

Docket Numbers: ER10-2229-000.

Applicants: Southern California Edison Company.

Description: Southern California Edison Company submits tariff filing per 35.13(a)(2)(iii): Letter Agreement Solar Millennium SA 84 N 081310 to be effective 7/16/2010.

Filed Date: 08/13/2010.

Accession Number: 20100813-5101.

Comment Date: 5 p.m. Eastern Time on Friday, September 3, 2010.

Docket Numbers: ER10-2230-000.

Applicants: Louisville Gas and Electric Company.

Description: Louisville Gas and Electric Company submits tariff filing per 35: Compliance Filing 08_13_10 to be effective N/A.

Filed Date: 08/13/2010.

Accession Number: 20100813-5107.

Comment Date: 5 p.m. Eastern Time on Friday, September 3, 2010.

Docket Numbers: ER10-2231-000.

Applicants: Kentucky Utilities Company.

Description: Kentucky Utilities Company submits tariff filing per 35: Compliance Filing 08_13_10 to be effective 7/18/2010.

Filed Date: 08/13/2010.

Accession Number: 20100813-5124.

Comment Date: 5 p.m. Eastern Time on Friday, September 3, 2010.

Docket Numbers: ER10-2232-000.

Applicants: ISO New England Inc.

Description: ISO New England Inc et al. submits revisions to the Forward Capacity Market rules related to performance penalties and incentives for Demand Resources.

Filed Date: 08/13/2010.

Accession Number: 20100816-0204.

Comment Date: 5 p.m. Eastern Time on Friday, September 3, 2010.

Docket Numbers: ER10-2233-000.

Applicants: Niagara Mohawk Power Corporation.

Description: Niagara Mohawk Power Corporation submits First Revised Service Agreement 125 etc.

Filed Date: 08/13/2010.

Accession Number: 20100816-0203.

Comment Date: 5 p.m. Eastern Time on Friday, September 3, 2010.

Docket Numbers: ER10-2234-000.

Applicants: Westar Energy, Inc.

Description: Westar Energy, Inc submits notice of cancellation to FERC Electric Tariff, Volume No 7, the Wholesale Contract Service—Rural Electric Cooperatives between Westar, Doniphan Electric Cooperative Association, et al.

Filed Date: 08/13/2010.

Accession Number: 20100816-0202.

Comment Date: 5 p.m. Eastern Time on Friday, September 3, 2010.

Docket Numbers: ER10-2235-000.

Applicants: San Diego Gas & Electric Company.

Description: San Diego Gas & Electric Company submits Annual Transmission Owner Formula Cycle 3 Rate Change (Cycle 4) Filing, effective 9/1/10.

Filed Date: 08/13/2010.

Accession Number: 20100816-0206.

Comment Date: 5 p.m. Eastern Time on Friday, September 3, 2010.

Docket Numbers: ER10-2236-000.

Applicants: PJM Interconnection, LLC.

Description: PJM Interconnection, LLC submits executed interim Interconnection Service Agreement with Exelon Generation Company, LLC and Commonwealth Edison Company.

Filed Date: 08/13/2010.

Accession Number: 20100816-0201.

Comment Date: 5 p.m. Eastern Time on Friday, September 3, 2010.

Docket Numbers: ER10-2237-000.

Applicants: Wildflower Energy LP.

Description: Wildflower Energy LP submits tariff filing per 35.12: 20100816_wildflower energy baseline to be effective 8/16/2010.

Filed Date: 08/16/2010.

Accession Number: 20100816-5046.

Comment Date: 5 p.m. Eastern Time on Tuesday, September 7, 2010.

Docket Numbers: ER10-2238-000.

Applicants: Indigo Generation LLC.

Description: Indigo Generation LLC submits tariff filing per 35.12: 20100816_indigo generation_baseline to be effective 8/16/2010.

Filed Date: 08/16/2010.

Accession Number: 20100816-5047.

Comment Date: 5 p.m. Eastern Time on Tuesday, September 7, 2010.

Docket Numbers: ER10-2239-000.

Applicants: Larkspur Energy LLC.

Description: Larkspur Energy LLC submits tariff filing per 35.12: 20100816_larkspur energy_baseline to be effective 8/16/2010.

Filed Date: 08/16/2010.

Accession Number: 20100816-5048.

Comment Date: 5 p.m. Eastern Time on Tuesday, September 7, 2010.

Docket Numbers: ER10-2240-000.

Applicants: Portland General Electric Company.

Description: Portland General Electric Company submits tariff filing per 35.12: PGE 12 Baseline Filing to be effective 8/16/2010.

Filed Date: 08/16/2010.

Accession Number: 20100816-5059.

Comment Date: 5 p.m. Eastern Time on Tuesday, September 7, 2010.

Docket Numbers: ER10-2241-000.

Applicants: New York Independent System Operator, Inc. and New York Transmission Owners.

Description: New York Independent System Operator submits tariff filing per 35.13(a)(2)(iii): Compliance Filing—Order 890—Patka 8/16/10 to be effective 8/16/2010.

Filed Date: 08/16/2010.

Accession Number: 20100816-5060.

Comment Date: 5 p.m. Eastern Time on Tuesday, September 7, 2010.

Docket Numbers: ER10-2243-000.

Applicants: Southwest Power Pool, Inc.

Description: Southwest Power Pool, Inc. submits tariff filing per 35.13(a)(2)(iii): 1164R1 Wildorado Wind, LLC LGIA to be effective 7/30/2010.

Filed Date: 08/16/2010.

Accession Number: 20100816-5095.

Comment Date: 5 p.m. Eastern Time on Tuesday, September 7, 2010.

Docket Numbers: ER10-2244-000.

Applicants: Southwest Power Pool, Inc.

Description: Southwest Power Pool, Inc. submits tariff filing per 35: Integrated Transmission Plan Compliance in ER10-1269 to be effective 7/26/2010.

Filed Date: 08/16/2010.

Accession Number: 20100816-5114.

Comment Date: 5 p.m. Eastern Time on Tuesday, September 7, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-20937 Filed 8-23-10; 8:45 am]

BILLING CODE 6717-01-P